DEPARTMENT OF AGRICULTURE

Agricultural Marketing Service

[Docket No. FV-04-329]

United States Standards for Grades of Canned Pears

AGENCY: Agricultural Marketing Service, USDA.

ACTION: Notice; request for public comment.

SUMMARY: The Agricultural Marketing Service (AMS), prior to undertaking research and other work associated with revising an official grade standard, is soliciting comments on the petition to change the United States Standards for Grades of Canned Pears. AMS received two petitions, one from a grower cooperative, the other from a processor, requesting that USDA change the character classification for Grade “B”, slices, and diced, to read “the units are reasonably tender or tenderness may be variable within the unit.”

DATES: Comments must be submitted on or before March 22, 2004.

ADDRESSES: Interested persons are invited to submit written comments concerning this notice. Comments must be sent to Karen L. Kaufman, Standardization Section, Processed Products Branch, Fruit and Vegetable Programs, Agricultural Marketing Service, U.S. Department of Agriculture, 1400 Independence Avenue, SW.; Room 0709, South Building; STOP 0247, Washington, DC 20250; Fax (202) 690-1527, e-mail Karen.Kaufman@usda.gov. The United States Standards for Grades of Canned Pears is available either through the address cited above or by accessing the AMS Home page on the Internet at http://www.ams.usda.gov/standards/frutcan.htm.

SUPPLEMENTARY INFORMATION:

Background

AMS received two petitions, one from a grower cooperative and the other from a processor, requesting the revision of the United States Standards for Grades of Canned Pears. The standards are established under the authority of the Agricultural Marketing Act of 1946 (7 U.S.C. 1621-1627). The petitioners represent growers from Washington State, Oregon and parts of California.

The petitioners are requesting that USDA change the character classification for Grade “B”, slices, and diced, to include the following: “the units are reasonably tender or the tenderness may be variable within the unit.” The current standard contains this wording for character classifications for halves, quarters, pieces or irregular pieces and whole pears. The petitioners believe the change in the standard will improve the economic position of domestic growers of pears.

Agricultural Marketing Service

Prior to undertaking detailed work to develop a revision to the standard, AMS is soliciting for comments on the petitions submitted to change the United States Standards for Grades of Canned Pears.

This notice provides a 60 day comment period for interested parties to comment on changes to the standard. Should AMS conclude that there is an interest in the proposal, the Agency will develop a proposed revised standard that will be published in the Federal Register with a request for comments in accordance with 7 CFR part 36.

Authority: 7 U.S.C. 1621-1627

Dated: January 14, 2004.
A.J. Yates,
Administrator, Agricultural Marketing Service.

[FR Doc. 04-1207 Filed 1-20-04; 8:45 am]

BILLING CODE 3410-02-M